DEPARTMENT OF EDUCATION

[Docket No.: ED-2022-SCC-0146]

Agency Information Collection Activities; Submission to the Office of Management and Budget for Review and Approval; Comment Request; ARP HCY SEA and LEA National Study Survey

AGENCY: Office of Elementary and Secondary Education (OESE), Department of Education (ED).

ACTION: Notice.

SUMMARY: In accordance with the Paperwork Reduction Act (PRA) of 1995, the Department is proposing a new information collection request (ICR).

DATES: Interested persons are invited to submit comments on or before March 3, 2023.

ADDRESSES: Written comments and recommendations for proposed information collection requests should be submitted within 30 days of publication of this notice. Click on this link www.reginfo.gov/public/do/PRAMain to access the site. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact John Mclaughlin, 202-401-0962.

SUPPLEMENTARY INFORMATION: The Department is especially interested in public comment addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public records.

Title of Collection: ARP HCY SEA and LEA National Study Survey.

OMB Control Number: 1810-NEW.

Type of Review: A new ICR.

Respondents/Affected Public: State, local, and Tribal governments.

Total Estimated Number of Annual Responses: 3,936.

Total Estimated Number of Annual Burden Hours: 2,290.

Abstract: The American Rescue Plan Act of 2021 (ARP) included an unprecedented $800 million to support the specific needs of homeless children and youth via the American Rescue Plan Elementary and Secondary School Emergency Relief—Homeless Children and Youth (ARP-HCY) Fund. State educational agencies (SEAs) and local educational agencies (LEAs) must use ARP-HCY funds within the three-year funding period, to identify and serve children and youth experiencing homelessness with wrap-around services addressing challenges related to COVID-19, to enable them to attend school and fully participate in school activities. As a one-time grant program with three years of funding administered as part of the American Rescue Plan, this new data collection for the U.S. Department of Education (the Department) seeks to understand how funds under this grant program are being used.

Specifically, the Department is seeking to learn about the distribution of ARP-HCY funds by SEAs, the characteristics of LEAs receiving funds, and the characteristics of LEAs who chose not to participate in the distribution of funds in each state. Additionally, the Department would like to gather information on how SEAs are using the funds that were set aside at the State level of the program and how LEAs are using funds received from this program.

This is a request for a new collection, the ARP-HCY National Study, which will utilize a survey of all SEAs (ARP-HCY SEA Survey) and a representative sample of state and national LEAs (ARP-HCY LEA Survey) to answer evaluation research questions.

Dated: January 26, 2023.
Kun Mullan,
PRA Coordinator, Strategic Collections and Clearance, Governance and Strategy Division, Office of Chief Data Officer, Office of Planning, Evaluation and Policy Development.

[FR Doc. 2023-01994 Filed 1-31-23; 8:45 am]

BILLING CODE 4000-01-P